DEPARTMENT OF ENERGY

Federal Energy Regulatory Commission

[Docket No. RP03-206-001]

ANR Pipeline Company; Notice of Compliance Filing

February 4, 2003.

Take notice that on January 30, 2003, ANR Pipeline Company (ANR), tendered for filing FERC Gas Tariff, Second Revised Volume No. 1, Substitute Fourth Revised Sheet No. 161A.02, with an effective date of January 16, 2003.

ANR states that the tariff sheet is being filed in compliance with the Commission's January 15, 2003 order implementing changes to ANR's Capacity Release provisions of the General Terms and Conditions of its FERC Gas Tariff.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: February 12, 2003.

Magalie R. Salas,
Secretary.

[FR Doc. 03-3149 Filed 2-7-03; 8:45 am]

BILLING CODE 6717-01-P